DEPARTMENT OF THE INTERIOR

Bureau of Land Management

[LLAKF030.16100000.DO0000.LXSILCYK0000]

Notice of Intent To Prepare a Resource Management Plan for the Central Yukon Planning Area Alaska and Associated Environmental Impact Statement

AGENCY: Bureau of Land Management, Interior.

ACTION: Notice of intent.

SUMMARY: In compliance with the National Environmental Policy Act of 1969, as amended (NEPA), the Federal Land Policy and Management Act of 1976, as amended, and the Alaska National Lands Interest Conservation Act of 1980 (ANILCA), as amended, the Bureau of Land Management (BLM) Central Yukon Field Office, Fairbanks, Alaska, intends to prepare a Resource Management Plan (RMP) with an associated Environmental Impact Statement (EIS) for the Central Yukon Planning Area. This notice announces the beginning of the scoping process to solicit public comments and identify issues. The RMP will replace the existing Utility Corridor RMP, Central Yukon RMP, and part of the Southwest Management Framework Plan. Additionally, the RMP will cover lands in the Fairbanks North Star Borough that are currently not included in any management plan.

DATES: This notice initiates the public scoping process for the RMP with the associated EIS. Comments on issues may be submitted in writing until December 11, 2013. The date(s) and location(s) of any scoping meetings will be announced at least 15 days in advance through local media, newspapers, and the BLM-Alaska Web site at: www.blm.gov/ak. In order to be included in the Draft RMP/EIS scoping report, all comments must be received prior to the close of the 180-day scoping period or 15 days after the last public meeting, whichever is later. We will provide additional opportunities for public participation upon publication of the Draft RMP/EIS.

ADDRESSES: You may submit comments on issues, planning criteria, and management questions and concerns related to the Central Yukon RMP by any of the following methods:

• In person at public scoping meetings in communities within the planning area. The BLM will announce the meeting dates, times and specific locations through news releases and on the BLM Web site at www.blm.gov/ak;

• Web site: www.blm.gov/ak;

• Email: CentralYukon@blm.gov;

• Fax: 907- 474-2282;

• Mail: Attn: Central Yukon Field Office, 1150 University Avenue, Fairbanks, AK 99709.

Documents pertinent to this proposal may be examined at the Fairbanks District Office; address: 1150 University Avenue, Fairbanks, AK 99709.

FOR FURTHER INFORMATION CONTACT: For further information and/or to have your name added to our mailing list, contact Jeanie Cole, Planning and Environmental Coordinator, telephone 907-474-2200; address: 1150 University Ave., Fairbanks, AK, 99709; email j05cole@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: This document provides notice that the BLM Central Yukon Field Office, Fairbanks, Alaska, intends to prepare a RMP with an associated EIS for the Central Yukon Planning Area. The BLM is announcing the beginning of the scoping process and seeking public input on issues and planning criteria. The planning area is located in central and northern Alaska and encompasses approximately 16 million acres of public land. The purpose of the public scoping process is to identify relevant issues that will influence the scope of the environmental analysis, including alternatives, and guide the planning process. Preliminary issues for the planning area identified by BLM personnel, Federal, State, and local agencies, and other stakeholders include: Increasing demands for and impacts from recreational use along the Dalton Highway; access and off-highway vehicle use, particularly along the Dalton Highway; increasing demand for mining; impacts from mining on fish and aquatic habitats; opening lands to new mineral entry; disposal of mineral material along the Dalton Highway; allowing the State of Alaska to select lands within the Utility Corridor for conveyance to the state; identification of Areas of Critical Environmental Concern (ACEC); potential additions to the Wild and Scenic Rivers system; management of wilderness characteristics; protection of resources important to maintaining a subsistence lifestyle; the importance of subsistence to local economies and traditional lifestyles; and impacts from climate change. Preliminary planning criteria include:

1. The primary purpose of the lands withdrawn by Public Land Order 5150 is the transportation of energy resources; therefore, the BLM will avoid proposing actions or activities with potential adverse impacts to existing and future energy transportation systems on these lands located within the corridor;

2. The BLM Central Yukon Field Office will encourage opportunities for public participation throughout the planning process;

3. The BLM will recognize and protect valid existing rights;

4. The BLM will consider subsistence uses and minimize adverse impacts in accordance with Section 810 of the ANILCA;

5. The BLM will work cooperatively with State and Federal agencies, Native corporations, Tribes, and municipal governments;

6. The BLM will consider plans and policies of adjacent conservation system units, land owners, and local governments;

7. The BLM will consider Department of the Interior guidance, Alaska Department of Fish and Game (ADF&G) objectives, and Federal Subsistence Board requirements and mandates—in decisions related to wildlife management.

8. The RMP will be consistent with the Bureau's H-1601-1 Land Use Planning Handbook, Appendix C, Program-Specific and Resource-Specific Decision Guidance and applicable BLM manuals and handbooks;

9. The plan will be consistent with the standards and guidance set forth in the Federal Land Policy and Management Act, NEPA, Council Environmental Quality, Historic Preservation Act, Wild and Scenic Rivers Act, Migratory Bird Treaty Act, ANILCA, and other Federal laws, regulations, and policies as required;

10. The plan will be consistent with BLM-Alaska Land Health Standards;

11. The BLM will complete designations for Off-Highway Vehicles for all BLM-managed lands within the planning area according to the regulations found in 43 CFR part 8342;

12. Within the Utility Corridor development nodes, the BLM will assess areas designated by BLM in the Utility Corridor RMP/ROD (1991) for future development (i.e., visitor facilities, restrooms, rest stops, etc.) regarding the location, size, boundaries, and appropriate uses, their long-range development, state or federal management, and affects on adjacent and nearby lands;

13. The plan will address public access needs;

14. The BLM will consider current and potentially new special designations, such as ACECs and Research Natural Areas (RNAs), using the criteria found in 43 CFR 1610.7-2 and 43 CFR part 8223;

15. Review and classification of waterways as eligible for inclusion in the National Wild and Scenic River System will be consistent with the guidance in BLM's 8351 Manual—Wild and Scenic Rivers;

16. The BLM will incorporate Environmental Justice (EJ) considerations in land use planning alternatives to adequately respond to EJ issues facing minority populations, low income communities, and Tribes living near public lands and using public land resources;

17. The plan will assess all BLM-managed lands in the planning area for wilderness characteristics using criteria established by BLM Manual 6310. The RMP will examine options for managing lands with wilderness characteristics and determine the most appropriate land use allocations for these lands. Considering wilderness characteristics in the land use planning process may result in several outcomes, including, but not limited to: (1) Emphasizing other multiple uses as a priority over protecting wilderness characteristics; (2) emphasizing other multiple uses while applying management restrictions (conditions of use, mitigation measures) to reduce impacts to wilderness characteristics; and, (3) the protection of wilderness characteristics as a priority over other uses; and

18. The BLM will manage the Central Arctic Management Area Wilderness Study Area consistent with BLM Manual 6330—Management of BLM Wilderness Study Areas, and ANILCA, until Congress acts on the wilderness recommendation.

You may submit comments on issues; planning criteria; and, management questions and concerns in writing to the BLM at any public scoping meeting, or you may submit them to the BLM using one of the methods listed in the ADDRESSES section above. In order to be included in the Draft RMP/EIS scoping report, all comments must be received prior to the close of the 180-day scoping period or 15 days after the last public meeting, whichever is later. Before including your address, phone number, email address, or other personal identifying information in your comment, you should be aware that your entire comment—including your personal identifying information—may be made publicly available at any time. While you can ask us in your comment to withhold your personal identifying information from public review, we cannot guarantee that we will be able to do so. The BLM will evaluate identified issues to address in the plan, and will place them into one of three categories:

1. Issues to be resolved in the plan;

2. Issues to be resolved through policy or administrative action; or,

3. Issues beyond the scope of this plan.

The BLM will provide an explanation in the Draft RMP/Draft EIS as to why an issue was placed in category two or three. The public is also encouraged to help identify any management questions and concerns that should be addressed in the plan. The BLM will work collaboratively with interested parties to identify the management decisions that are best suited to local, regional, and national needs and concerns.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Federally Recognized Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

The BLM will use an interdisciplinary approach to develop the plan in order to consider the variety of resource issues and concerns identified. Specialists with expertise in the following disciplines will be involved in the planning process: minerals and geology, outdoor recreation, archeology, wildlife, fisheries, lands and realty, hydrology, soils, vegetation, air quality, subsistence, and socioeconomics.

Authority: 40 CFR 1501.7, 43 CFR 1610.2.

Ted A. Murphy,
Acting State Director.

[FR Doc. 2013-14031 Filed 6-13-13; 8:45 am]

BILLING CODE 4310-JA-P